DEPARTMENT OF TRANSPORTATION

Federal Railroad Administration

[Docket No. FRA-2023-0002-N-15]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before November 24, 2023.

ADDRESSES: Written comments and recommendations for the proposed ICR should be submitted on regulations.gov to the docket, Docket No. FRA-2023-0002. All comments received will be posted without change to the docket, including any personal information provided. Please refer to the assigned OMB control number (2130-0010) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Track Safety Standards.

OMB Control Number: 2130-0010.

Abstract: The Track Safety Standards regulations under 49 CFR part 213 prescribe minimum safety requirements for railroad track that is part of the general railroad system of transportation. FRA uses this information collection to ensure and enhance rail safety by monitoring complete compliance with all regulatory requirements. While the requirements prescribed in this part generally apply to specific track conditions existing in isolation, a combination of track conditions, none of which individually amounts to a deviation from the requirements in this part, may require remedial action to provide safe operations over that track. Qualified persons inspect track and take action to allow safe passage of trains and ensure compliance with the prescribed standards.

In 2020, FRA published a final rule ¹ revising the minimum safety requirements for railroad track. The changes allowed inspection of rail using continuous rail testing; the use of flange-bearing frogs in crossing diamonds; relaxed the guard check gage limits on heavy-point frogs used in Class 5 track; removed an inspection-method exception for high density commuter lines; and other miscellaneous revisions.

¹ 85 FR 63362.

In addition, in 2011, FRA promulgated a rule ² mandating specific requirements for effective concrete crossties, for rail fastening systems connected to concrete crossties, and for automated inspections of track constructed with concrete crossties. These requirements supplement visual inspections by Class I and Class II railroads, intercity passenger railroads, and commuter railroads.³

² 76 FR 18073.

³ To more effectively manage FRA's ICRs, the concrete crosstie ICR, OMB Control No. 2130-0592, has been combined with that of track safety standards, OMB Control No. 2130-0010 in this renewal cycle.

In this 60-day notice, FRA made multiple adjustments to its estimated paperwork burden, resulting in an increase of 278 hours, from 234,016 hours in the current inventory to 234,294 hours in the requested inventory. This increase is the result of FRA combining the annual burden hours with OMB Control Number 2130-0592, which covers concrete crossties, as detailed below:

• Under § 213.234(e), FRA added 31.25 hours.

• Under § 213.234(g), FRA added 60.00 hours.

• Under § 213.234(h)(3), FRA added 187.50 hours.

Type of Request: Extension without change (with changes in estimates) of a currently approved collection.

Affected Public: Businesses.

Form(s): N/A.

Respondent Universe: 784.

Frequency of Submission: On occasion.

Reporting Burden:

CFR section | Respondent universe | Total annual responses | Average time per response | Total annual burden hours | Total cost equivalent in U.S. dollar
|  | (A) | (B) | (C = A * B) | (D = C * wage rates) ⁴
213.4(f)—Excepted track—Notification to FRA about removal of excepted track | 784 railroads | 15 notices | 10 minutes | 2.50 | $214.83
213.5(c)—Responsibility for compliance—Notification of assignment to FRA | 784 railroads | 15 notices | 1 hour | 15.00 | 1,288.95
213.7(a)(b)—Designations: Names on list with written authorizations | 784 railroads | 2,500 names | 10 minutes | 416.67 | 35,804.45
213.17(a)—Waivers | 784 railroads | 10 petitions | 2 hours | 20.00 | 1,718.60
213.57(e)—Curves; elevation and speed limitations—Request to FRA for vehicle type approval | 784 railroads | 4 requests | 8 hours | 32.00 | 2,749.76
—(f) Written notification to FRA prior to implementation of higher curving speeds | 784 railroads | 4 notifications | 2 hours | 8.00 | 687.44
—(g) Written consent of track owners obtained by railroad providing service over that track | 784 railroads | 4 written consents | 45 minutes | 3.00 | 257.79
213.110(a)—Gage restraint measurement systems (GRMS)—Implementing GRMS—notices & reports | 784 railroads | 1 notification | 45 minutes | 0.75 | 64.45
—(g) GRMS vehicle output reports | 784 railroads | 1 report | 5 minutes | 0.08 | 6.87
—(h) GRMS vehicle exception reports | 784 railroads | 1 report | 5 minutes | 0.08 | 6.87
—(j) GRMS/PTLF—procedures for data integrity | 784 railroads | 1 documented procedure | 1 hour | 1.00 | 85.93
—(n) GRMS inspection records | 784 railroads | 2 records | 30 minutes | 1.00 | 85.93
213.118(a)-(c)—Continuous welded rail (CWR)—Revised plans w/procedures for CWR | 438 railroads | 10 plans | 4 hours | 40.00 | 3,437.20
—(d) Notification to FRA and RR employees of CWR plan effective date | 438 railroads | 750 notices | 15 seconds | 3.13 | 268.96
—(e) Written submissions after plan disapproval | 438 railroads | 5 written submissions | 2 hours | 10.00 | 859.30
—(e) Final FRA disapproval and plan amendment | 438 railroads | 5 amended plans | 1 hour | 5.00 | 429.65
213.234(e)—Automated inspection of track constructed with concrete crossties—Exception reports listing all exception to § 213.109(d)(4) Added requirement and burden hours from 2130-0592 | 30 railroads | 125 reports | 15 minutes | 31.25 | 2,097.19
—(f) Automated inspection of track constructed with concrete crossties—Recordkeeping requirements | 30 railroads | 2,000 records | 30 minutes | 1,000.00 | 85,930.00
—(g) Procedure for integrity of data—Track owners to institute procedures for maintaining the integrity of the data collected by the measurement system. Added requirement and burden hours from 2130-0592 | 30 railroads | 30 revised procedures | 2 hours | 60.00 | 7,404.60
—(h)(3) Training Track owners to provide annual training in handling rail seat deterioration exceptions to all persons designated as fully qualified under § 213.7 and whose territories are subject to the requirements of § 213.234—Recordkeeping. Added requirement and burden hours from 2130-0592 | 30 railroads | 2,250 records of trained employees | 5 minutes | 187.50 | 12,583.13
213.237(b)(2)—Inspection of Rail—Detailed request to FRA to change designation of a rail inspection segment or establish a new segment | 65 railroads | 4 requests | 15 minutes | 1.00 | 85.93
—(b)(3) Notification to FRA and all affected employees of designation's effective date after FRA's approval/conditional approval | 65 railroads | 1 notice to FRA + 15 bulletins | 15 minutes | 4.00 | 343.72
—(d) Notice to FRA that service failure rate target in paragraph (a) of this section is not achieved | 65 railroads | 4 notices | 15 minutes | 1.00 | 85.93
—(d)—Explanation to FRA as to why performance target was not achieved and provision to FRA of remedial action plan | 65 railroads | 4 letters of explanation/plans | 15 minutes | 1.00 | 85.93
213.238—Qualified operators—Written or electronic of qualification | 3 railroads + 5 testing entities | 250 records | 5 minutes | 20.83 | 1,789.92
213.240(b)—Continuous Rail Testing—Procedures for conducting continuous testing | 12 railroads | 4 procedures | 8 hours | 32.00 | 2,749.76
—(c) Type of rail test (continuous or stop-and-verify)—Record | 12 railroads | 25,000 documents/records | 2 seconds | 13.89 | 1,193.57
—(c)—Type of rail test (continuous or stop-and-verify)—Documented changes | 12 railroads | 100 documents | 1 minute | 1.67 | 143.50
—(g) Annual reports to FRA | 12 railroads | 12 reports | 4 hours | 48.00 | 4,124.64
213.241—Inspection records | 784 railroads | 1,375,000 records | 10 minutes | 229,166.67 | 19,692,291.95
213.303(b)—Responsibility for compliance—Notification of assignment to FRA | 2 railroads | 5 notices | 30 minutes | 2.50 | 214.83
213.305(c)(4)—Designation of qualified individuals; general qualifications—Written authorization for remedial actions | 2 railroads | 20 written documents | 30 minutes | 10.00 | 859.30
—(e) Railroads produced designation record upon FRA request | 2 railroads | 200 records | 10 minutes | 33.33 | 2,864.05
213.317(a)-(b)—Waivers | 2 railroads | 2 petitions | 8 hours | 16.00 | 1,374.88
213.329(e)—Curves, elevation, and speed limitations—FRA approval of qualified vehicle types based on results of testing | 2 railroads | 2.00 cover letters + 2.00 technical reports + 2.00 diagrams | 30.00 minutes + 16.00 hours + 15.00 minutes | 33.50 | 2,878.66
—(f) Written notification to FRA 30 days prior to implementation of higher curving speeds | 2 railroads | 2 notices | 2 hours | 4.00 | 343.72
—(g) Written consent of other affected track owners by railroad | 2 railroads | 2 written consents | 45 minutes | 1.50 | 128.90
213.333(d)—Automated vehicle-based inspection systems—Track Geometry Measurement System (TGMS) output/exception reports | 7 railroads | 7 reports | 1 hour | 7.00 | 601.51
213.341(b)-(d)—Initial inspection of new rail & welds—Inspection records | 2 railroads | 800 records | 2 minutes | 26.67 | 2,291.75
213.343(a)-(e)—CWR—Procedures for installations and adjustments of CWR | 2 railroads | 2 plans | 4 hours | 8.00 | 687.44
—(h) Recordkeeping requirements | 2 railroads | 8,000 records | 2 minutes | 266.67 | 22,914.95
213.345(a)-(c)—Vehicle qualification testing—Vehicle qualification program for all vehicle types operating at track Class 6 speeds or above | 2 railroads | 2 program plans | 120 hours | 240.00 | 20,623.20
—(d) Previously qualified vehicle types qualification programs | 2 railroads | 2 program plans | 8 hours | 16.00 | 1,374.88
—(h) Written consent of other affected track owners by railroad | 4 railroads | 4 written consents | 30 minutes | 2.00 | 246.82
213.369(d)—Inspection Records—Record of inspection of track | 2 railroads | 15,000 record sets | 10 minutes | 2,500.00 | 214,825.00
Total ⁵ | 784 railroads | 1,432,181 responses | N/A | 234,294 | 20,131,107

Total Estimated Annual Responses: 1,432,181.

⁴ The dollar equivalent cost is derived from the 2022 Surface Transportation Board Full Year Wage A&B data series using the employee groups 100 (Executives, Officials, and Office Staff Assistants) $70.52, 200 (Professional and Administrative) $49.10, and 400 (Maintenance of Equipment & Stores) $38.35. The total burden wage rate (Straight time plus 75%) used in the table is $85.93 ($49.10 × 1.75 = $85.93) except for the following: § 213.234(g) and § 213.345(h) which uses an hourly wage rate of $123.41 (70.52 × 1.75 = $123.41) and § 213.234(h)(3) which uses an hourly wage rate of $67.11 ($38.35 × 1.75 = $67.11).

⁵ Totals may not add up due to rounding.

Total Estimated Annual Burden: 234,294.

Total Estimated Annual Burden Hour Dollar Cost Equivalent: $20,131,107.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2023-20662 Filed 9-22-23; 8:45 am]

BILLING CODE 4910-06-P